DEPARTMENT OF ENERGY

Federal Energy Regulatory Commission

[Docket No. RD14-13-000]

Commission Information Collection Activities (FERC-725F); Comment Request; Extension

AGENCY: Federal Energy Regulatory Commission, DOE.

ACTION: Notice of information collection and request for comments.

SUMMARY: In compliance with the requirements of the Paperwork Reduction Act of 1995, 44 U.S.C. 3507(a)(1)(D), the Federal Energy Regulatory Commission (Commission or FERC) is soliciting public comment on the currently approved information collection, FERC-725F (Mandatory Reliability Standard for Nuclear Plant Interface Coordination: Reliability Standard NUC-001-3), as modified in this docket. The Commission previously published a notice in the Federal Register (79 FR 69450, 11/21/2014) requesting public comments. The Commission received no comments and is making this notation in its submittal to OMB.

DATES: Comments on the collection of information are due March 19, 2015.

ADDRESSES: You may submit comments (identified by Docket No. RD14-13-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725F (Mandatory Reliability Standard for Nuclear Plant Interface Coordination: Reliability Standard NUC-001-3).

OMB Control No.: 1902-0249.

Type of Request: Three-year extension of the FERC-725F information collection requirements.

Abstract: The Commission requires the information collected by the FERC-725F to implement the statutory provisions of section 215 of the Federal Power Act (FPA).¹ On August 8, 2005, the Electricity Modernization Act of 2005, which is Title XII, Subtitle A, of the Energy Policy Act of 2005 (EPAct 2005), was enacted into law.² EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.³

¹ 16 U.S.C. 824o (2012).

² Energy Policy Act of 2005, Pub. L. 109-58, Title XII, Subtitle A, 119 Stat. 594, 941 (2005), 16 U.S.C. 824o.

³ 16 U.S.C. 824o(e)(3).

On February 3, 2006, the Commission issued Order No. 672, implementing section 215 of the FPA.⁴ Pursuant to Order No. 672, the Commission certified one organization, the North American Electric Reliability Corporation (NERC), as the ERO. The Reliability Standards developed by the ERO and approved by the Commission apply to users, owners and operators of the Bulk-Power System as set forth in each Reliability Standard.

⁴ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

On November 19, 2007, NERC filed its petition for Commission approval of the Nuclear Plant Interface Coordination Reliability Standard, designated NUC-001-1. In Order No. 716 the Commission approved the standard while also directing certain revisions.⁵ Reliability Standard, NUC-001-2, was approved by the Commission on January 21, 2010.⁶ Revised Reliability Standard NUC-001-3 was filed with the Commission by NERC on September 15, 2014.

⁵ Mandatory Reliability Standard for Nuclear Plant Interface Coordination, Order No. 716, 125 FERC ¶ 61,065, at P 189 & n.90 (2008), order on reh'g, Order No. 716-A, 126 FERC ¶ 61,122 (2009).

⁶ North American Electric Reliability Corporation, 130 FERC ¶ 61,051 (2010). When the revised Reliability Standard was approved the Commission, it did not go to OMB for approval. It is assumed that the changes made did not substantively affect the information collection, and therefore a formal submission to OMB was not needed.

The purpose of Reliability Standard NUC-001-3 is to require “coordination between nuclear plant generator operators and transmission entities for the purpose of ensuring nuclear plant safe operation and shutdown.” ⁷ Reliability Standard NUC-001-3 applies to nuclear plant generator operators (generally nuclear power plant owners and operators, including licensees of the U.S. Nuclear Regulatory Commission) and “transmission entities,” defined in the Reliability Standard as including a nuclear plant's suppliers of off-site power and related transmission and distribution services. Reliability Standard NUC-001-3 requires a nuclear power plant operator and its suppliers of back-up power and related transmission and distribution services to coordinate concerning nuclear licensing requirements for safe nuclear plant operation and shutdown and system operating limits. Information collection requirements include establishing and maintaining interface agreements, including record retention requirements.

⁷ See Reliability Standard NUC-001-3, available at http://www.nerc.com/files/NUC-001-3.pdf.

Type of Respondents: Nuclear power plant owners, operators, and transmission entities

Estimate of Annual Burden: ⁸ The Commission estimates for the annual public reporting burden for the Reliability Standard NUC-001-3 are unchanged from the estimates in the public notices issued for Reliability Standard NUC-001-2 on 10/30/2014 ⁹ and 1/28/2015 ¹⁰ in Docket No. IC14-16-000.

⁸ The Commission defines burden as the total time, effort, or financial resources expended by persons to generate, maintain, retain, or disclose or provide information to or for a Federal agency. 5 CFR 1320.3 (2014) (explaining what is included in the information collection burden).

⁹ 79 FR 61068 (10/9/2014).

¹⁰ 80 FR 6067 (2/4/2015).

Reliability Standard NUC-001-3 represents the implementation of recommendations made by the NERC Five Year Review Team to revise Reliability Standard NUC-001-2. These recommendations include clarifying and conforming changes to update the standard for current use of terminology implemented in other areas of the Reliability Standards, as well as updated violation risk factors and violation severity levels for the evaluation of violations of the Reliability Standard. The burden of complying with the requirements under Reliability Standard NUC-001-3 will not change because the changes from the previous Reliability Standard NUC-001-2 are substantially administrative in nature.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 9, 2015.
Kimberly D. Bose,
Secretary.

[FR Doc. 2015-03106 Filed 2-13-15; 8:45 am]

BILLING CODE 6717-01-P